DEPARTMENT OF HEALTH AND HUMAN SERVICES

Food and Drug Administration

21 CFR Chapter I

[Docket No. 2005N-0201]

Change of Name and Address; Technical Amendment

AGENCY: Food and Drug Administration, HHS.

ACTION: Final rule; technical amendment.

SUMMARY: The Food and Drug Administration (FDA) is amending its regulations to reflect a change in the name and address for the Association of Official Analytical Chemists International (AOAC). This action is editorial in nature and is intended to improve the accuracy of the agency's regulations.

DATES: This rule is effective July 15, 2005.

FOR FURTHER INFORMATION CONTACT: Joyce Strong, Office of Policy and Planning (HF-27), Food and Drug Administration, 5600 Fishers Lane, Rockville, MD 20857, 301-827-7010.

SUPPLEMENTARY INFORMATION: This document amends FDA's regulations to reflect the name and address change of AOAC by removing the outdated name and address wherever it appears and by adding the new name and address in its place in 21 CFR parts 2, 10, 101, 102, 106, 114, 130, 131, 133, 135, 136, 137, 139, 145, 146, 150, 155, 156, 160, 161, 163, 164, 166, 168, 169, 172, 173, 176, 177, 178, 184, 189, 211, 226, 520, and 573.

Publication of this document constitutes final action on these changes under the Administrative Procedure Act (5 U.S.C. 553). Notice and public procedure are unnecessary because FDA is merely correcting nonsubstantive errors.

Therefore, under the Federal Food, Drug, and Cosmetic Act and under authority delegated to the Commissioner of Food and Drugs, 21 CFR chapter I is amended as follows:

Chapter I [Nomenclature changes]

1. Parts 2, 101, 102, 106, 114, 130, 131, 133, 135, 136, 137, 139, 145, 146, 150, 155, 156, 160, 161, 163, 164, 166, 168, 169, 172, 173, 176, 177, 178, 184, 189, 211, 226, 520, and 573 are amended by removing the text set forth below wherever it appears and adding new text in its place as follows:

A. Remove:

“Association of Official Analytical Chemists International, 481 North Frederick Ave., suite 500, Gaithersburg, MD 20877-2504”, or

“Association of Official Analytical Chemists International, 481 North Frederic Ave., suite 500, Gaithersburg, MD 20877-2504”, or

“Association of Official Analytical Chemists International, 481 North Frederick Ave., suite 500, Gaithersbuerg, MD 20877-2504”, or

“Association of Official Analytical Chemists International, 481 North Frederick Ave., Suite 500, Gaithersburg, MD 20877-2504”, or

“Association of Official Analytical Chemists International, 481 North Frederick Ave, suite 500, Gaithersburg, MD 20877-2504”, or

“AOAC INTERNATIONAL, 481 North Frederick Ave., suite 500, Gaithersburg, MD 20877-2504”, or

“Association of Official Analytical Chemists, 2200 Wilson Blvd., Suite 400, Arlington, VA 22201-3301”, or

“Association of Official Analytical Chemists, P.O. Box 540, Benjamin Franklin Station, Washington, DC 20044”.

B. Add:

“Association of Official Analytical Chemists International, 481 North Frederick Ave., suite 500, Gaithersburg, MD 20877”.

PARTS 2, 10, 101, and 211 [AMENDED]

2. In addition to the amendments set forth in the previous paragraph, in 21 CFR parts 2, 10, 101, and 211 add the word “International” after the words “Association of Official Analytical Chemists” in the following places:

a. Section 2.19 where it appears in the first sentence, after the words “to utilize the methods of analysis of the”;

b. Section 10.95(d)(8)(v);

c. Section 101.70(f);

d. Section 101.81(c)(2)(ii)(B)(2) in the first sentence;

e. Appendix A to part 101; and

f. Section 211.194(a)(2) in the third sentence.

Dated: July 8, 2005.
Jeffrey Shuren,
Assistant Commissioner for Policy.

[FR Doc. 05-13898 Filed 7-14-05; 8:45 am]

BILLING CODE 4160-01-S